DEPARTMENT OF AGRICULTURE

National Institute of Food and Agriculture

Solicitation of Nomination of Veterinary Shortage Situations for the Veterinary Medicine Loan Repayment Program (VMLRP)

AGENCY: National Institute of Food and Agriculture, USDA.

ACTION: Notice and solicitation for nominations.

SUMMARY: The National Institute of Food and Agriculture (NIFA) is soliciting nominations for veterinary service shortage situations for the Veterinary Medicine Loan Repayment Program (VMLRP; [74 FR 32788-32798]), as authorized under the National Veterinary Medical Services Act (NVMSA), 7 U.S.C. 3151a. This Notice initiates a 45-day nomination solicitation period and prescribes the procedures and criteria to be used by State, Insular Area, DC and Federal Lands (hereafter referred to as State(s)) Animal Health Officials (SAHO) in order to nominate veterinary shortage situations. All States are eligible to submit nominations, up to the maximum indicated for each State in this notice. NIFA is conducting this solicitation of veterinary shortage situation nominations under previously approved information collection (OMB Control Number 0524-0046).

FOR FURTHER INFORMATION CONTACT: Gary Sherman; National Program Leader, Veterinary Science; National Institute of Food and Agriculture; U.S. Department of Agriculture; STOP 2220; 1400 Independence Avenue, SW.; Washington, DC 20250-2220; Voice: 202-401-4952; Fax: 202-401-6156; E-mail: gsherman@nifa.usda.gov.

SUPPLEMENTARY INFORMATION:

Background and Purpose

In recent years, a number of studies have been conducted to investigate national veterinary workforce needs in different veterinary sectors including private practice, public practice (local, State, and Federal service), military service, research, public health, food safety and other specialty disciplines. Major studies include two National Academies of Science (NAS) reports, Animal Health at the Crossroads: Preventing, Detecting, and Diagnosing Animal Diseases and Critical Needs for Research in Veterinary Science, a third pending NAS committee report, Assessing the Current and Future Workforce Needs in Veterinary Medicine, which is currently under final review, and a 2009 GAO Federal Veterinary Work Force report, VETERINARIAN WORKFORCE: Actions Are Needed to Ensure Sufficient Capacity for Protecting Public and Animal Health. These studies, taken together with a number of smaller assessments of veterinary workforce needs conducted by various professional associations, indicate shortages of veterinarians exist in nearly all sectors and many of these shortages will worsen without enhancement of resources, facilities, incentives, and novel recruiting and educational strategies.

A landmark series of three peer-reviewed studies published in 2007 in the Journal of the American Veterinary Medical Association (JAVMA), and sponsored by the Food Supply Veterinary Medicine Coalition (http://www.avma.org/fsvm/recognition.asp), gave considerable attention to the growing shortage of food supply veterinarians, the causes of shortages in this sector, and the consequences to the US food safety infrastructure and to the general public if this trend continues to worsen. Food supply veterinary medicine embraces a broad array of veterinary professional activities, specialties and responsibilities, and is defined as the full range of veterinary medical practices contributing to the production of a safe and wholesome food supply and to animal, human, and environmental health. However, the privately practicing food animal veterinary practitioner population within the US is, numerically, the largest, and arguably the most important single component of the food supply veterinary medical sector. Food animal veterinarians, working closely with livestock producers and State and Federal officials, constitute the first line of defense against spread of endemic and zoonotic diseases, introduction of high consequence foreign animal diseases, and other threats to the health and wellbeing of both animals and humans that consume animal products.

Among the most alarming findings of the Coalition-sponsored studies was objective confirmation that insufficient numbers of veterinary students are selecting food supply veterinary medical careers. This development has led both to current shortages and to projections for worsening shortages over the next 10 years. While there were many reasons students listed for opting not to choose a career in food animal practice or other food supply veterinary sectors, chief among the reasons was concern over burdensome educational debt. According to a survey of veterinary medical graduates conducted by the American Veterinary Medical Association (AVMA) in the spring of 2009, the average educational debt for students graduating from veterinary school is approximately $130,000. Such debt loads incentivize students to select other veterinary careers, such as companion animal medicine, which tend to be more financially lucrative and, therefore, enable students to more quickly repay their outstanding educational loans. Furthermore, when this issue was studied in the Coalition report from the perspective of identifying solutions to this workforce imbalance, panelists were asked to rate 18 different strategies for addressing shortages. Responses from the panelists overwhelmingly showed that student debt repayment and scholarship programs were the most important strategies in addressing future shortages (JAVMA 229:57-69).

Public Comments and Solicitation Notice Changes in Response

On July 9, 2009, NIFA published a Federal Register Notice [74 FR 32788-32798] with request for comment on the VMLRP Interim Rule, which included, in part, general procedures for designation of veterinary shortage situations.

NIFA invited public comment on the VMLRP Interim Rule, which included a description of the process for solicitation of nomination of veterinary shortage situations. NIFA received seven sets of comments relating to the nomination solicitation process.

Comment: Three commentors suggested that the State Animal Health Official be required to consult with the State Veterinary Association and other interested parties within the State when identifying underserved areas within a State.

NIFA Response: We strongly recommend that State Animal Health Officials involve other leading animal health experts in the nomination process as they identify underserved areas within their respective States.

Comment: One commentor expressed concern that low density agricultural areas will be regarded as less important than areas of heavily concentrated agriculture.

Comment: One commentor recommended that representatives of Federal agencies be included on an official review panel.

NIFA Response: NIFA will take these comments into consideration as it develops the solicitation for nominations for veterinarian shortage situations and implements the review panel.

Comment: One commentor urged USDA to examine the feasibility of establishing an indexing system whereby each shortage situation that is designated is awarded a weighted score for severity of shortage.

NIFA Response: As with other review processes conducted by NIFA, the review panel will evaluate the composite qualitative and quantitative arguments presented in the submitted nomination packages against criteria described elsewhere in this notice. The panel will classify each shortage situation as either “Recommended for designation” or “Not recommended for designation”.

Comment: One commentor suggested that solicitation notices be published on an annual basis instead of a biennial basis. Another commentor requested clarification on the frequency of the need to apply for the designation of shortage areas and the need to reassess a designation once it is filled by a veterinarian enrolled in the VMLRP.

NIFA Response: NIFA presumes that, over time, the shortage situation priorities of a State will change due to veterinarians relocating to fill critical areas designated by the VMLRP. NIFA will also be mindful of spontaneous shifts in perceived threats to animal health in time and space. To address changing conditions, NIFA program staff will assess the relative demand for reprioritization of shortage situation distribution within the States on an annual basis. However, NIFA reserves the right to conduct this solicitation on a biennial basis to save administrative costs and to adhere to the aggressive annual program schedule and/or to respond to funding fluctuations.

Paperwork Reduction Act

In accordance with the Office of Management and Budget (OMB) regulations (5 CFR part 1320) that implement the Paperwork Reduction Act of 1995 (44 U.S.C. Chapter 35), the information collection and recordkeeping requirements imposed by the implementation of these guidelines have been approved by OMB Control Number 0524-0046.

List of Subjects in Guidelines for Veterinary Shortage Situation Nominations

I. Preface and Authority

II. Nomination of Veterinary Shortage Situations

A. General

1. Eligible Shortage Situations

2. Authorized Respondents and Use of Consultation

3. Rationale for Capping Nominations and State Allocation Method

4. State Allocation of Nominations

5. Period Covered

6. Submission and Due Date

7. Definitions

B. Nomination Form and Description of Fields

1. Access to Nomination Form

2. Physical Location of Shortage Area or Position

3. Type I Shortage

4. Type II Shortage

5. Type III Shortage

6. Written Response Sections

C. NIFA Review of Shortage Situation Nominations

1. Review Panel Composition and Process

2. Review Criteria

Guidelines for Veterinary Shortage Situation Nominations

I. Preface and Authority

In January 2003, the National Veterinary Medical Service Act (NVMSA) was passed into law adding section 1415A to the National Agricultural Research, Extension, and Teaching Policy Act of 1997 (NARETPA). This law established a new Veterinary Medicine Loan Repayment Program (7 U.S.C. 3151a) authorizing the Secretary of Agriculture to carry out a program of entering into agreements with veterinarians under which they agree to provide veterinary services in veterinarian shortage situations. In November 2005, the Agriculture, Rural Development, Food and Drug Administration, and Related Agencies Appropriations Act, 2006 (Pub. L. 109-97) appropriated $495,000 for CSREES to implement the Veterinary Medicine Loan Repayment Program and represented the first time funds had been appropriated for this program. In February 2007, the Revised Continuing Appropriations Resolution, 2007 (Pub. L. 110-5) appropriated an additional $495,000 to CSREES for support of the program, and in December 2007, the Consolidated Appropriations Act, 2008 appropriated an additional $868,875 to CSREES for support of this program. On March 11, 2009, the Omnibus Appropriations Act, 2009 (Pub. L. 111-8) was enacted, providing an additional $2,950,000, for the VMLRP. In October 2009, the President signed into law, Public Law 111-80, Agriculture, Rural Development, Food and Drug Administration, and Related Agencies Appropriations Act of 2010, which appropriated $4,800,000 for the VMLRP. Consequently, as of the publication of this Notice, there is a cumulative total of approximately $9.6 million available for NIFA to administer this program. Funding for future years will be based on annual appropriations and balances carried forward from prior years, and may vary from year to year.

Section 7105 of the Food, Conservation, and Energy Act of 2008, Public Law 110-246, (FCEA) amended section 1415A to revise the determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

NARETPA section 1415A requires the Secretary, when determining the amount of repayment for a year of service by a veterinarian to consider the ability of USDA to maximize the number of agreements from the amounts appropriated and to provide an incentive to serve in veterinary service shortage areas with the greatest need. This section also provides that loan repayments may consist of payments of the principal and interest on government and commercial loans received by the individual for attendance of the individual at an accredited college of veterinary medicine resulting in a degree of Doctor of Veterinary Medicine or the equivalent. This program is not authorized to provide repayments for any government or commercial loans incurred during the pursuit of another degree, such as an associate or bachelor degree.

The Secretary delegated the authority to carry out this program to NIFA.

Pursuant to the requirements enacted in the NVMSA of 2004 (as revised), and the implementing regulation for this Act, Part 3431 Subpart A of the VMLRP Interim Rule [74 FR 32788-32798], the National Institute of Food and Agriculture hereby implements Guidelines for the solicitation of nomination of veterinary shortage situations from authorized State Animal Health Officials:

II. Nomination of Veterinary Shortage Situations

A. General

1. Eligible Shortage Situations

Section 1415A of the National Agricultural Research, Extension, and Teaching Policy Act of 1997 (NARETPA), as amended and revised by Section 7105 of the Food, Conservation, and Energy Act of 2008, Public Law 110-246, (FCEA) directs determination of veterinarian shortage situations to consider (1) geographical areas that the Secretary determines have a shortage of veterinarians; and (2) areas of veterinary practice that the Secretary determines have a shortage of veterinarians, such as food animal medicine, public health, epidemiology, and food safety. This section also added that priority should be given to agreements with veterinarians for the practice of food animal medicine in veterinarian shortage situations.

While the NVMSA (as amended) specifies priority be given to food animal medicine shortage situations, and that consideration also be given to specialty areas such as public health, epidemiology and food safety, the Act does not identify any areas of veterinary practice as ineligible. Accordingly, all nominated veterinary shortage situations will be considered eligible for submission. However, the competitiveness of submitted nominations, upon evaluation by the review panel, will reflect the intent of Congress that priority be given to certain types of veterinary service shortage situations. NIFA therefore anticipates that in the first year, and perhaps subsequent early years of program implementation, the most competitive nominations will be those directly addressing food supply veterinary medicine shortage situations.

NIFA has adopted definitions of the practice of veterinary medicine and the practice of food supply medicine that are broadly inclusive of the critical roles veterinarians serve in both public practice and private practice situations. Nominations describing either public or private practice veterinary shortage situations will therefore be eligible for submission. However, NIFA interprets that Congressional intent is to give priority to the private practice of food animal medicine. NIFA is grateful to the Association of American Veterinary Medical Colleges (AAVMC), the American Veterinary Medical Association (AVMA), and other stakeholders for their recommendations regarding the appropriate balance of program emphasis on public and private practice shortage situations. NIFA will seek to achieve a final distribution of approximately 90 percent of nominations (and eventual agreements) that are geographic, private practice, food animal veterinary medicine shortage situations, and approximately 10 percent of nominations that reflect public practice shortage situations.

2. State Respondents and Use of Consultation

Respondents on behalf of each State include the chief State Animal Health Official (SAHO), as duly authorized by the Governor or his designee in each State. The SAHO Nominators are requested to submit to vmlrp@nifa.usda.gov a Form—NIFA 2009-0001, VMLRP Veterinarian Shortage Situation Nomination, which is available in the Shortage Situations section for the VMLRP on the NIFA Web site at http://www.nifa.usda.gov/vmlrp. One form must be submitted for each nominated shortage situation. NIFA strongly encourages the SAHO to involve leading health animal experts in the State in the identification and prioritization of shortage situation nominations.

3. Rationale for Capping Nominations and State Allocation Method

In its consideration of fair, transparent and objective approaches to solicitation of shortage area nominations, NIFA evaluated three alternative strategies before deciding on the appropriate strategy. The first option considered was to impose no limits on the number of nominations submitted. The second was to allow each State the same number of nominations. The third (eventually selected) was to differentially cap the number of nominations per State based on defensible and intuitive criteria.

The first option, providing no limits to the number of nominations per State, is fair to the extent that each State and insular area has equal opportunity to nominate as many situations as desired. However, funding for the VMLRP is limited (relative to anticipated demand) and so allowing potentially high and disproportionate submission rates of nominations could both unnecessarily burden the nominators and the reviewers with a potential avalanche of nominations and dilute highest need situations with lower-level need situations. Moreover, NIFA believes that the distribution of opportunity under this program (i.e., distribution of mapped shortage situations resulting from the nomination solicitation and review process) should roughly reflect the national distribution of veterinary service demand. By not capping nominations based on some objective criteria, it is likely there would be no correlation between the mapped pattern and density of certified shortage situations and the actual pattern and density of need. This in turn could undermine confidence in the program with Congress, the public, and other stakeholders.

The second option, limiting all States and insular areas to the same number of nominations suffers from some of the same disadvantages as option one. It has the benefit in that it controls the administrative burden on both the SAHO and the nomination review process. However, like option one, there would be no correlation between the mapped pattern of certified shortage situations and the actual pattern of need. For example, Guam and Rhode Island would be allowed to submit the same number of nominations as Texas and Nebraska, despite the large difference in the sizes of their respective animal agriculture industries and rural land areas requiring veterinary services.

The third option, to cap the number of nominations in relation to major parameters correlating with veterinary service demand, achieves the goals both of practical control over the administrative burden to the States and NIFA, and of achieving a mapped pattern of certified nominations that approximates the theoretical actual shortage distribution. In addition, this method limits dilution of highest need areas with lower-level need areas. The disadvantage of this strategy is that there is no validated, unbiased, direct measure of veterinary shortage and so it is necessary to employ robust surrogate parameters that correlate with the hypothetical cumulative relative need for each State in comparison to other States. Such parameters exist and the degree to which they are not perfect measures of veterinary need is compensated for by generously assigning nomination allowances based on State rank for each parameter.

In the absence of a validated unbiased direct measure of relative veterinary service need or risk for each State and insular area, the National Agricultural Statistics Service (NASS) provided NIFA with reliable, publically accessible, high quality, unbiased data that correlate with demand for food supply veterinary service. NIFA has consulted with NASS and determined that NASS State-level variables most strongly correlated with food supply veterinary service need are “Livestock and Livestock Products Total Sales ($)” and “Land Area” (acres). The “Livestock and Livestock Products Total Sales ($)” variable broadly predicts veterinary service need in a State because this is a normalized (to cash value) estimate of the extent of (live) animal agriculture in the State. The State “land area” variable predicts veterinary service need because there is positive correlation between State land area, percent of State area classified as rural and the percent of land devoted to actual or potential livestock production. Importantly, land area is also directly correlated with the number of veterinarians needed to provide veterinary services in a State because of the practical limitations relating to the maximum radius of a standard veterinary service area; due to fuel and other cost factors, the maximum radius a veterinarian operating a mobile veterinary service can cover is approximately 60 miles, which roughly corresponds to two or three contiguous counties of average size.

NIFA recognizes that that these two NASS variables are not perfect predictors of veterinary service demand. However, for the purpose of fairly and transparently estimating veterinary service demand, NIFA believes these two unbiased composite variables account for a significant proportion of several of the most relevant factors influencing veterinary service need and risk. To further ensure fairness and equitability, NIFA is employing these variables in a straightforward, transparent and liberal manner that ensures every State and insular area is eligible for at least one nomination and that all States receive a generous apportionment of nominations, relative to their geographic size and size of agricultural animal industries.

Following this rationale, the Secretary is specifying the maximum number of nominations per State in order to (1) assure distribution of designated shortage areas in a manner generally reflective of the differential overall demand for food supply veterinary services in different States, (2) ensure a practical balance between the number of potential awardees and the available shortage situations, (3) assure the number of shortage situation nominations submitted fosters emphasis on selection by nominators and applicants of the highest priority need areas, and (4) provide practical and proportional limitations of the administrative burden borne by SAHOs preparing nominations, and by panelists serving on the NIFA nominations review panel.

Furthermore, instituting a limit on the number of nominations is consistent with language in the Interim Rule stating, “The solicitation may specify the maximum number of nominations that may be submitted by each State animal health official.”

4. State Allocation of Nominations

For any given program year, the number of designated shortage situations per State will be limited by NIFA, and this will in turn impact the number of new nominations a State may submit each time NIFA solicits shortage nominations. In the first year of the program NIFA will accept a number of nominations equivalent to the allowable number of designated shortage areas. In subsequent years, when NIFA may solicit additional nominations, the number of nominations requested from each State will be the maximum number of designated shortage situations for the State minus the number of shortage situations filled since the last solicitation for nominations. Thus, with each new solicitation, States have the opportunity to re-establish the maximum number of designated shortage situations. NIFA reserves the right in the future to proportionally adjust the maximum number of designated shortage situations per State to ensure a balance between available funds and the requirement to ensure priority is given to mitigating veterinary shortages corresponding to situations of greatest need. These Nomination Allocation tables are available under the Shortage Situations section at http://www.nifa.usda.gov/vmlrp.

Table I represents “Special Consideration Areas” which include any State or Insular Area not reporting data, and/or reporting less than $1,000,000 in annual Livestock and Livestock Products Total Sales ($), and/or possessing less than 500,000 Acres. One nomination is allocated to any State or Insular Area classified as a Special Consideration Area.

Table II shows how NIFA determined nomination allocation based on quartile ranks of States for two variables correlated with demand for food supply veterinary services; “Livestock and Livestock Products Total Sales ($)” (LPTS) and “Land Area (acres)” (LA). The total number of NIFA-approved/designated shortage situations per State is based on the quartile ranking of each State in terms of LPTS and LA. States for which NASS has both LPTS and LA values, and which have at least $1,000,000 LPTS and at least 500,000 acres LA (typically all States plus Puerto Rico), were independently ranked from least to greatest value for each of these two composite variables. The two ranked lists were then divided into quartiles with quartile 1 containing the lowest variable values and quartile 4 containing the highest variable values. Each State then received the number of designated shortage situations corresponding to the number of the quartile in which the State falls. Thus a State that falls in the second quartile for LA and the third quartile for LPTS will be invited to submit up to five designated shortage situations (2 + 3). This transparent computation was made for each State thereby giving a range of 2 to 8 designated shortage situations, contingent upon each State's quartile ranking for the two variables. Should changes in future funding for the program indicate the need for an increase or decrease in the maximum number of designated shortage situations, a multiplier either greater or less than one will be applied to make a proportional adjustment to every State.

The total number of nominations a State Animal Health Official may submit on behalf of his/her State for the current solicitation is shown in Table III.

While Federal Lands are widely dispersed within States and Insular Areas across the country, they constitute a composite total land area over twice the size of Alaska. If the 200-mile limit U.S. coastal waters and associated fishery areas are added, Federal Land total acreage would exceed 1 billion. Both State and Federal Animal Health officials have responsibilities for matters relating directly or indirectly to terrestrial and aquatic food animal health on Federal Lands. An example of a food animal health problem requiring coordination between State and Federal animal health officials is the reemergence of bovine TB infection, thought to be caused in part by circulation of this pathogen in a variety of undomesticated animal reservoirs that come in contact with domestic cattle. Interaction between wildlife and domestic livestock, such as sheep and cattle, is particularly common in the plains States where significant portions of Federal lands are leased for grazing. Therefore, both SAHOs and the Chief Federal Animal Health Officer (Deputy Administrator, Animal and Plant Health Inspection Service or designee) may submit nominations to address shortage situations on or related to Federal Lands. These nominations count toward the maximum number of nominations allocated to each entity.

NIFA emphasizes that shortage nomination allocation is merely intended to broadly balance number of certified shortage situations across States prior to the applications and awards phase of the VMLRP. In the awards phase, no State will be given a preference for placement of awardees. Awards will be made based strictly on the peer review panel's assessment of the quality of the match between the knowledge, skills and abilities of the applicant and the attributes of the specific shortage situation applied for.

5. Period Covered

Each designated shortage situation shall be certified until filled, or withdrawn by the SAHO. A SAHO may request that NIFA remove a previously certified and designated shortage situation by sending an e-mail to the program manager, Dr. Gary Sherman (gsherman@nifa.usda.gov). The request should specifically identify the shortage situation proposed for decertification, and reason(s) for decertification should be included. The program manager will review the request, make a determination, and inform the requesting SAHO of the final action taken. Where a request for decertification leads to removal from the list of NIFA-designated shortage situations, the decertified situation may not be replaced by nomination of an alternate shortage situation until the next time NIFA releases an RFA soliciting shortage nominations for this program.

6. Submission and Due Date

Shortage situation nominations must be submitted by March 8, 2010, to the Office of Extramural Programs; National Institute of Food and Agriculture (NIFA); U.S. Department of Agriculture. The nominations must be submitted by E-mail to vmlrp@nifa.usda.gov.

7. Definitions

For the purpose of implementing the solicitation for veterinary shortage situations, the following definitions are applicable:

Act means the National Veterinary Medical Service Act, as amended.

Agency or NIFA means the National Institute of Food and Agriculture.

Department means the United States Department of Agriculture.

Food animal means the following species: bovine, porcine, ovine/camelid, cervid, poultry, caprine, and any other species as determined by the Secretary.

Food supply veterinary medicine means all aspects of veterinary medicine's involvement in food supply systems, from traditional agricultural production to consumption.

Insular area means the Commonwealth of Puerto Rico, Guam, American Samoa, the Commonwealth of the Northern Mariana Islands, the Federated States of Micronesia, the Republic of the Marshall Islands, the Republic of Palau, and the Virgin Islands of the United States.

NVMSA means the National Veterinary Medicine Service Act.

Practice of food supply veterinary medicine includes corporate/private practices devoted to food animal medicine, mixed animal medicine located in a rural area (at least 30 percent of practice devoted to food animal medicine), food safety, epidemiology, public health, animal health, and other practices that contribute to the production of a safe and wholesome food supply.

Practice of veterinary medicine means: To diagnose, treat, correct, change, alleviate, or prevent animal disease, illness, pain, deformity, defect, injury, or other physical, dental, or mental conditions by any method or mode; including: the prescription, dispensing, administration, or application of any drug, medicine, biologic, apparatus, anesthetic, or other therapeutic or diagnostic substance or medical or surgical technique, or the use of complementary, alternative, and integrative therapies, or the use of any manual or mechanical procedure for reproductive management, or the rendering of advice or recommendation by any means including telephonic and other electronic communications with regard to any of the above.

Rural area means any area other than a city or town that has a population of 50,000 inhabitants and the urbanized area contiguous and adjacent to such a city or town.

Secretary means the Secretary of Agriculture and any other officer or employee of the Department to whom the authority involved has been delegated.

Service area means geographic area in which the veterinarian will be providing veterinary medical services.

State means any one of the fifty States, the District of Columbia, and the insular areas of the United States. Also included are total “Federal Lands”, defined for convenience as a single entity.

State animal health official or SAHO means the State veterinarian, or equivalent, who will be responsible for nominating and certifying veterinarian shortage situations within State, insular Area, DC or Federal Lands entities.

Veterinarian means a person who has received a professional veterinary medicine degree from a college of veterinary medicine accredited by the AVMA Council on Education.

Veterinary medicine means all branches and specialties included within the practice of veterinary medicine.

Veterinary Medicine Loan Repayment Program or VMLRP means the Veterinary Medicine Loan Repayment Program authorized by the National Veterinary Medical Service Act.

Veterinarian shortage situation means any of the following situations in which the Secretary, in accordance with the process in Subpart A of 7 CFR part 3431, determines has a shortage of veterinarians:

(1) Geographical areas that the Secretary determines have a shortage of food supply veterinarians; and

(2) Areas of veterinary practice that the Secretary determines have a shortage of food supply veterinarians, such as food animal medicine, public health, animal health, epidemiology, and food safety.

B. Nomination Form and Description of Fields

1. Access to Nomination Form

The veterinary shortage situation nomination form is available in the Shortage Situations section at http://www.nifa.usda.gov/vmlrp and should be e-mailed to vmlrp@nifa.usda.gov.

2. Physical Location of Shortage Area or Position

Following conclusion of the nomination submission and designation process, NIFA must prepare lists and/or map(s) that include all certified shortage situations. This will require specification of a physical location representing the center of the service area (for a geographic shortage), or the location of the main office or work address for a public practice and/or specialty practice shortage. For example, if the State seeks to certify a tri-county area as a food animal veterinary service (e.g., Type I) shortage situation, a road intersection approximating the center of the tri-county area would constitute a satisfactory physical location for NIFA's listing and mapping purposes. By contrast, if the State is identifying “veterinary diagnostician”, a Type III nomination, as a shortage situation, then the nominator would complete this field by filling in the address of the location where the diagnostician would work (e.g., State animal disease diagnostic laboratory).

3. Type I Shortage—80 Percent or Greater Private Practice Food Supply Veterinary Medicine

Check one or more boxes indicating which specie(s) constitute the veterinary shortage situation. The Type I shortage situation must entail at least an 80 percent time commitment to private practice food supply veterinary medicine. The nominator will specify the minimum percent time (between 80 and 100 percent) a veterinarian must commit in order to satisfactorily fill the specific nominated situation. The shortage situation may be located anywhere (rural or non-rural) so long as the veterinary service shortages to be mitigated are consistent with the definition of “practice of food supply veterinary medicine.” The minimum 80 percent time commitment is, in part, recognition of the fact that occasionally food animal veterinary practitioners are expected to meet the needs of other veterinary service sectors such as clientele owning companion and exotic animals. Type I nominations are intended to address those shortage situations where the nominator believes a veterinarian can operate profitably committing between 80 and 100 percent time to food animal medicine activities in the designated shortage area, given the client base and other socio-economic factors impacting viability of veterinary practices in the area. This generally corresponds to a shortage area where clients can reasonably be expected to pay for professional veterinary services and where food animal populations are sufficiently dense to support a (or another) veterinarian. The personal residence of the veterinarian (VMLRP awardee) and the address of veterinary practice employing the veterinarian may or may not fall within the geographic bounds of the designated shortage area.

4. Type II Shortage—30 Percent or Greater Private Practice Food Supply Veterinary Medicine in a Rural Area (as Defined)

Check one or more boxes indicating which specie(s) constitute the veterinary shortage situation. The shortage situation must be in an area satisfying the definition of “rural.” The minimum 30 percent-time (12 hr/wk) commitment of an awardee to serve in a rural shortage situation is in recognition of the fact that there may be some remote or economically depressed rural areas in need of food animal veterinary services that are unable to support a practitioner predominately serving the food animal sector, yet the need for food animal veterinary services for an existing, relatively small, proportion of available food animal business is nevertheless great. The Type II nomination is therefore intended to address those rural shortage situations where the nominator believes there is a critical shortage of food supply veterinary services, and that a veterinarian can operate profitably committing 30 to 100 percent to food animal medicine in the designated rural shortage area. The nominator will specify the minimum percent time (between 30 and 100 percent) a veterinarian must commit in order to satisfactorily fill the specific nominated situation. Under the Type II nomination category, the expectation is that the veterinarian may provide veterinary services to other veterinary sectors (e.g., companion animal clientele) as a means of achieving financial viability. As with Type I nominations, the residence of the veterinarian (VMLRP awardee) and/or the address of veterinary practice employing the veterinarian may or may not fall within the geographic bounds of the designated shortage area. However, the awardee is required to verify the specified minimum percent time commitment (30 percent to 100 percent) to service within the specified geographic shortage area.

5. Type III Shortage—Public Practice Shortage (49%—Time or Greater Public Practice)

In the spaces provided, identify the “Employer” and the “Position Title”, and check one or more of the appropriate boxes identifying the specialty/disciplinary area(s) being nominated as a shortage situation. This is a broad nomination category comprising many types of specialized veterinary training and employment areas relating to food supply veterinary workforce capacity and capability. These positions are typically located in city, county, State and Federal Government, and institutions of higher education. Examples of positions within the public practice sector include university faculty and staff, veterinary laboratory diagnostician, County Public Health Officer, State Veterinarian, State Public Health Veterinarian, State Epidemiologist, FSIS meat inspector, Animal and Plant Health Inspection Service (APHIS) Area Veterinarian in Charge (AVIC), and Federal Veterinary Medical Officer (VMO).

Veterinary shortage situations such as those listed above are eligible for consideration under Type III nomination. However, nominators should be aware that Congress has stipulated that the VMLRP must emphasize private food animal practice shortage situations. Accordingly, NIFA anticipates that loan repayments for the Public Practice sector will be limited to approximately 10 percent of total nominations and available funds.

The minimum time commitment serving under a Type III shortage nomination is 49 percent. The nominator will specify the minimum percent time (between 49 percent and 100 percent) a veterinarian must commit in order to satisfactorily fill the specific nominated situation. NIFA understands that some public practice employment opportunities that are shortage situations may be part-time positions. For example, a veterinarian pursuing an advanced degree (in a shortage discipline area) on a part-time basis may also be employed by the university for the balance of the veterinarian's time to provide part-time professional veterinary service(s) such as teaching, clinical service, or laboratory animal care; areas that may or may not also qualify as veterinary shortage situations. The 49 percent minimum therefore provides flexibility to nominators wishing to certify public practice shortage situations that would be ineligible under more stringent minimum percent time requirements.

6. Written Response Sections

a. Objectives of a veterinarian meeting this shortage situation.

Within the allowed word limit the nominator should clearly State overarching objectives the State hopes to achieve by placing a veterinarian in the nominated situation. Include the minimum percent time commitment (within the range of the shortage Type selected) the awardee is expected to devote to filling the specific food supply veterinary shortage situation.

b. Activities of a veterinarian meeting this shortage situation.

Within the allowed word limit the nominator should clearly State the principal day-to-day professional activities that would have to be conducted in order to achieve the objectives described in (a) above.

c. Past efforts to recruit and retain a veterinarian in the shortage situation.

Within the allowed word limit the nominator should explain any prior efforts to mitigate this veterinary service shortage, and prospects for recruiting veterinarian(s) in the future.

d. Risk of this veterinarian position not being secured or retained.

Within the allowed word limit the nominator should explain the consequences of not addressing this veterinary shortage situation.

e. Candidacy for a “service in emergency” agreement. NIFA is not requesting information in support of this type of agreements at this time.

C. NIFA Review of Shortage Situation Nominations

1. Review Panel Composition and Process

NIFA will convene a panel of food supply veterinary medicine experts from Federal and State agencies, as well as institutions receiving Animal Health and Disease Research Program funds under section 1433 of NARETPA, who will review the nominations and make recommendations to the NIFA Program Manager. NIFA explored the possibly of including experts from professional organizations for this process, but under the National Agricultural Research, Extension, and Teaching Policy Act (NARETPA) section 1409A(e), panelists for the purposes of this process are limited to Federal and State agencies and cooperating State institutions (i.e., NARETPA section 1433 recipients).

The VMLRP Program Manager will then review the recommendations and designate the VMLRP shortage situations. The list of shortage situations will be published in the Federal Register and will be made available on the NIFA Web site at http://www.nifa.usda.gov/vmlrp.

2. Review Criteria

Criteria used by the shortage situation nomination review panel and NIFA for certifying a veterinary shortage situation will be consistent with the information requested in the shortage situations nomination form. NIFA understands that defining the risk landscape associated with shortages of veterinary services throughout a State is a process that may require consideration of many qualitative and quantitative factors. In addition, each shortage situation will be characterized by a different array of subjective and objective supportive information that must be developed into a cogent case identifying, characterizing, and justifying a given geographic or disciplinary area as one deficient in certain types of veterinary capacity or service. To accommodate the uniqueness of each shortage situation, the nomination form provides opportunities to present a case using both supportive metrics and narrative explanations to define and explain the proposed need. At the same time, the elements of the nomination form provide a common structure for the information collection process which will in turn facilitate fair comparison of the relative merits of each nomination by the evaluation panel.

While NIFA anticipates some arguments made in support of a given shortage situation will be qualitative, respondents are encouraged to present verifiable quantitative and qualitative evidentiary information where ever possible.

Maximum point values review panelists may award for response to each of the nomination for form elements are as follows:

20 points: Describe the objectives of a veterinarian meeting this shortage situation as well as being located in the community, area, State/insular area, or position requested above.

20 points: Describe the activities of a veterinarian meeting this shortage situation and being located in the community, area, State/insular area, or position requested above.

15 points: Describe any past efforts to recruit and retain a veterinarian in the shortage situation identified above.

25 points: Describe the risk of this veterinarian position not being secured or retained. Include the risk(s) to the production of a safe and wholesome food supply and/or to animal, human, and environmental health not only in the community but in the region, State/insular area, nation, and/or international community.

An additional 20 points will be used by review panelists to evaluate overall merit/quality of the case made for inclusion of each nomination in the list of certified veterinary shortage situations.

Prior to the panel being convened, shortage situation nominations will be evaluated and scored according to the established scoring system by a primary reviewer. When the panel convenes, the primary reviewer will present each nomination orally in summary form. After each presentation, panelists will have an opportunity, if necessary, to discuss the nomination, with the primary reviewer leading the discussion and recording comments. After the panel discussion is complete, any scoring revisions will be made by and at the discretion of the primary reviewer. The panel is then polled to recommend, or not recommend, the shortage situation designation. Nominations scoring 70 or higher by the primary reviewer (on a scale of 0 to 100), and receiving a simple majority vote in support of designation as a shortage situation will be “recommended for designation as a shortage situation.” Nominations scoring below 70 by the primary reviewer, and failure to achieve a simple majority vote in support of designation will be “not recommended for designation as a shortage situation.” In the event of a discrepancy between the primary reviewer's scoring and the panel poll results, the VMLRP program manager will be authorized to make the final determination on the nomination's designation.

Done at Washington, DC, January 15, 2010.
Roger Beachy,
Director, National Institute of Food and Agriculture.

[FR Doc. 2010-1114 Filed 1-21-10; 8:45 am]

BILLING CODE P